DEPARTMENT OF HOMELAND SECURITY

Coast Guard

33 CFR Part 117

[Docket No. USCG-2012-0601]

Drawbridge Operation Regulations; Niantic River, Niantic, CT

AGENCY: Coast Guard, DHS.

ACTION: Notice of temporary deviation from regulations.

SUMMARY: The Commander, First Coast Guard District, has issued a temporary deviation from the regulation governing the operation of the Amtrak Railroad Bridge across the Niantic River, mile 0.0, at Niantic, Connecticut. The deviation allows the bridge to remain in the closed position for a 48 hour period and for periodic overnight closures to facilitate pier alignment and completion of work on machinery and the lift span.

DATES: This deviation is effective from 9 p.m. on July 15, 2012 through 6 a.m. on August 22, 2012.

ADDRESSES: Documents mentioned in this preamble as being available in the docket are part of docket USCG-2012-0601 and are available online at www.regulations.gov, inserting USCG-2012-0601 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, telephone (212) 668-7165, email judy.k.leung-yee@uscg.mil. If you have questions on viewing the docket, call Renee V. Wright, Program Manager, Docket Operations, telephone 202-366-9826.

SUPPLEMENTARY INFORMATION: The Amtrak Railroad Bridge, across the Niantic River, mile 0.0, at Niantic, Connecticut, has a vertical clearance in the closed position of 16 feet at mean high water. The drawbridge operation regulations are listed at 33 CFR 117.215(a).

The waterway users are recreational vessels and seasonal fishing boats.

The operator of the bridge, National Passenger Railroad Corporation (Amtrak), requested a temporary deviation from the regulations to facilitate pier alignment and completion of machinery installation at the new Niantic River RR Bridge.

The Coast Guard previously issued a temporary deviation to Amtrak dated May 2, 2012, USCG-2012-0305, to allow the bridge to remain in the closed position during the hours of 11 p.m. until 6 a.m., Monday through Thursday, beginning May 15, 2012 until August 15, 2012 in order to facilitate completion of machinery installation and lift span work at the new railroad bridge. However, in May 2012, the contractor discovered a minor shift in the bascule pier, causing a misalignment of the new bridge.

Until the pier alignment problem is resolved, the work anticipated to be completed during the closures authorized under the May 2, 2012 temporary deviation cannot be done.

In order to complete all the remaining work and correct the pier alignment problem a 48 hour bridge closure from 9 p.m. July 15 to 9 p.m. July 17, 2012 was determined to be necessary and the best time to conduct work in order to bring the bridge into proper alignment. Once the alignment is completed machinery installation and lift span work may continue.

This scenario was presented to the Amtrak Annual Boaters Meeting on June 7, 2012. The waterway users and Sector Long Island Sound have all concurred with the bridge closure period as the optimal time for the closure so that completion of the bridge replacement project is not impacted. Additionally, periodic overnight closures with the possibility of two openings after advance notice was agreed upon.

Under this temporary deviation the Amtrak Railroad Bridge may remain in the closed position from 9 p.m. on July 15, 2012 through 9 p.m. on July 17, 2012. In addition, the bridge may remain in the closed position during the hours of 10 p.m. until 6 a.m., Sunday through Wednesday, each week beginning July 22, 2012 until August 22, 2012 except that openings will be granted at midnight and 4:30 a.m. with a 2 hour advance notice. This schedule will be published in the Local Notice to Mariners, and via broadcast notice to mariners as necessary.

Vessels that can pass under the bridge in the closed position may do so at all times.

The waterway users were advised of the requested bridge closure and offered no objection.

In accordance with 33 CFR 117.35(e), the bridge must return to its regular operating schedule immediately at the end of the designated time periods. This deviation from the operating regulations is authorized under 33 CFR 117.35.

Dated: July 9, 2012.
Gary Kassof,
Bridge Program Manager, First Coast Guard District.

[FR Doc. 2012-17579 Filed 7-18-12; 8:45 am]

BILLING CODE 9110-04-P